FEDERAL COMMUNICATIONS COMMISSION

47 CFR Part 73

[DA 09-412; MB Docket No. 08-26; RM-11418]

Radio Broadcasting Services; Evart and Ludington, MI

AGENCY: Federal Communications Commission.

ACTION: Final rule.

SUMMARY: The Audio Division, at the request of Roy E. Henderson, allots FM Channel 274A at Evart, Michigan, as that community's first local service. In order to accommodate that allotment, the Audio Division also substitutes Channel 249A for vacant FM Channel 242A at Ludington, Michigan. Channel 274A can be allotted at Evart, Michigan, in compliance with the Commission's minimum distance separation requirements with a site restriction of 14.6 km (9.1 miles) north of Evart at the following reference coordinates: 44-01-43 North Latitude and 85-17-51 West Longitude. Channel 249A can be allotted at Ludington, Michigan, in compliance with the Commission's minimum distance separation requirements with a site restriction of 9.0 km (5.6 miles) north of Ludington at the following reference coordinates: 44-01-53 North Latitude and 86-24-57 West Longitude.

DATES: Effective April 13, 2009.

ADDRESSES: Secretary, Federal Communications Commission, 445 12th Street, SW., Washington, DC 20554.

FOR FURTHER INFORMATION CONTACT: Deborah Dupont, Media Bureau, (202) 418-2180.

SUPPLEMENTARY INFORMATION: This is a synopsis of the Commission's Report and Order, MB Docket No. 08-26, adopted February 25, 2009, and released February 27, 2009. The full text of this Commission decision is available for inspection and copying during normal business hours in the FCC Reference Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com.

This document does not contain proposed information collection requirements subject to the Paperwork Reduction Act of 1995, Public Law 104-13. In addition, therefore, it dos not contain any proposed information collection burden “for small business concerns with fewer than 25 employees,” pursuant to the Small Business Paperwork Relief Act of 2002, Public Law 107-198, see 44 U.S.C. 3506(c)(4). The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Michigan, is amended by adding Evart, Channel 274A, by removing Channel 242A and by adding Channel 249A at Ludington.

Federal Communications Commission.
John A. Karousos,
Assistant Chief, Audio Division, Media Bureau.

[FR Doc. E9-6791 Filed 3-25-09; 8:45 am]

BILLING CODE 6712-01-P